DEPARTMENT OF COMMERCE

International Trade Administration

[A-523-810]

Polyethylene Terephthalate Resin From the Sultanate of Oman: Final Results of Antidumping Duty Administrative Review; 2020-2021

AGENCY: Enforcement and Compliance, International Trade Administration, Department of Commerce.

SUMMARY: The U.S. Department of Commerce (Commerce) has determined that OCTAL SAOC—FZC (OCTAL), the sole respondent subject to this antidumping duty (AD) administrative review, made sales of subject merchandise at less than normal value during the period of review (POR) May 1, 2020, through April 30, 2021.

DATES: Applicable December 9, 2022.

FOR FURTHER INFORMATION CONTACT: Jonathan Hill, AD/CVD Operations, Office IV, Enforcement and Compliance, International Trade Administration, U.S. Department of Commerce, 1401 Constitution Avenue NW, Washington, DC 20230; telephone: (202) 482-3518.

SUPPLEMENTARY INFORMATION:

Background

On June 7, 2022, Commerce published the Preliminary Results in the Federal Register and invited interested parties to comment on those results.¹ On July 14, 2022, DAK Americas LLC, Indorama Ventures USA, Inc., and Nan Ya Plastics Corporation, America (collectively, the petitioners) filed a case brief and OCTAL filed a letter in lieu of a case brief.² On July 22, 2022, OCTAL filed a rebuttal brief.³ For a complete description of the events that occurred since publication of the Preliminary Results, see the Issues and Decision Memorandum.⁴

¹ See Polyethylene Terephthalate Resin from the Sultanate of Oman: Preliminary Results of Antidumping Duty Administrative Review; 2020-2021, 87 FR 34643 (June 7, 2022), and accompanying Preliminary Decision Memorandum (Preliminary Results).

² See Petitioners' Letter, “Polyethylene Terephthalate Resin from the Sultanate of Oman: Petitioners' Case Brief,” dated July 14, 2022; see also OCTAL's Letter, “OCTAL's Letter in Lieu of Case Brief: Certain Polyethylene Terephthalate (PET) Resin from the Sultanate of Oman,” dated July 14, 2022.

³ See OCTAL's Letter, “OCTAL's Rebuttal Brief Certain Polyethylene Terephthalate (PET) Resin from the Sultanate of Oman,” dated July 22, 2022.

⁴ See Memorandum, “Issues and Decision Memorandum for the Final Results of the 2020-2021 Administrative Review of the Antidumping Duty Order on Polyethylene Terephthalate Resin from the Sultanate of Oman,” dated concurrently with, and hereby adopted by, this notice (Issues and Decision Memorandum).

Commerce conducted this administrative review in accordance with section 751 of the Tariff Act of 1930, as amended (the Act).

Scope of the Order

The merchandise covered by this order is PET resin having an intrinsic viscosity of at least 0.70, but not more than 0.88, deciliters per gram. The merchandise subject to this Order is properly classified under subheadings 3907.60.00.30, 3907.61.0000, 3907.61.0010, 3907.61.0050, 3907.69.0000, 3907.69.0010, and 3907.69.0050 of the Harmonized Tariff Schedule of the United States (HTSUS).⁵ Although the HTSUS subheadings are provided for convenience and customs purposes, the written description of the merchandise covered by this Order is dispositive. For a complete description of the scope of the order, see Issues and Decision Memorandum.

⁵ On January 27, 2017, Commerce added HTSUS subheadings 3907.61.0000 and 3907.69.0000 to the Case Reference File. See Memorandum, “Request from Customs and Border Protection to Update the ACE Case Reference File: Polyethylene Terephthalate Resin form the Sultanate of Oman (A-523-810),” dated January 31, 2017. Further, on February 28, 2019, Commerce added HTSUS subheadings 3907.61.0010, 3907.61.0050, 3907.69.0010, and 3907.69.0050 to the Case Reference File. See Memorandum, “Request from U.S. Customs and Border Protection to Update the ACE Case Reference File: Polyethylene Terephthalate Resin form the Sultanate of Oman (A-523-810),” dated February 28, 2019.

Analysis of Comments Received

We listed all the issues that interested parties raised in their case and rebuttal briefs, and which we addressed in the Issues and Decision Memorandum, in the Appendix to this notice. The Issues and Decision Memorandum is a public document that is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

Changes Since the Preliminary Results

Based on a review of the record and comments received from interested parties, we made certain changes to the Preliminary Results. See the Issues and Decision Memorandum for a description of those changes.

Final Results of Review

We are assigning the following weighted-average dumping margin to the firm listed below for the period May 1, 2020, through April 30, 2021:

Producers/exporters | Weighted average dumping margin (percent)
OCTAL SAOC-FZC | 3.96

Disclosure

Commerce intends to disclose the calculations performed in connection with these final results to interested parties within five days of the date of publication of this notice in the Federal Register, in accordance with 19 CFR 351.224(b).

Assessment Rates

Commerce has determined, and U.S. Customs and Border Protection (CBP) shall assess, antidumping duties on all appropriate entries in this review, in accordance with section 751(a)(2)(C) of the Act and 19 CFR 351.212(b). Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Pursuant to 19 CFR 351.212(b)(1), where the respondent reported the entered value of its U.S. sales, we calculated importer-specific ad valorem duty assessment rates based on the ratio of the total amount of dumping calculated for the examined sales to the importer to the total entered value of those sales. Where the respondent did not report entered value, we calculated importer-specific per-unit duty assessment rates based on the ratio of the total amount of dumping calculated for the examined sales to the importer to the total quantity of those sales. To determine whether an importer-specific per-unit duty assessment rate was de minimis, we calculated an estimated entered value. Where an importer-specific assessment rate is de minimis (i.e., less than 0.5 percent), the entries by that importer will be liquidated without regard to dumping duties.⁶

⁶ See Antidumping Proceedings: Calculation of the Weighted-Average Dumping Margin and Assessment Rate in Certain Antidumping Proceedings; Final Modification, 77 FR 8101, 8102 (February 14, 2012).

For entries of subject merchandise during the POR produced by OCTAL for which it did not know that its merchandise was destined for the United States, we will instruct CBP to liquidate such entries at the all-others rate (i.e., 7.62 percent) ⁷ if there is no rate for the intermediate company(ies) involved in the transaction.⁸

⁷ See Certain Polyethylene Terephthalate Resin from Canada, the People's Republic of China, India, and the Sultanate of Oman: Amended Final Affirmative Antidumping Determination (Sultanate of Oman) and Antidumping Duty Orders, 81 FR 27979, 27981 (May 6, 2016).

⁸ For a full discussion of this practice, see Antidumping and Countervailing Duty Proceedings: Assessment of Antidumping Duties, 68 FR 23954 (May 6, 2003).

Cash Deposit Requirements

The following cash deposit requirements will be effective for all shipments of the subject merchandise entered, or withdrawn from warehouse, for consumption on or after the publication date of this notice in the Federal Register, as provided by section 751(a)(2)(C) of the Act: (1) the cash deposit rate for OCTAL will be equal to the weighted-average dumping margin listed in the above table; (2) for subject merchandise exported by producers or exporters not covered in this review, but covered in a prior segment of the proceeding, the cash deposit rate will continue to be the rate established for the producer or exporter in the most recently completed segment of this proceeding in which it participated; (3) if the exporter of the subject merchandise does not have a company-specific cash deposit rate, but the producer does, then the cash deposit rate will be the cash deposit rate established for the producer in the most recently completed segment of this proceeding; and (4) the cash deposit rate for all other producers or exporters will continue to be 7.62 percent, the all-others rate established in the less-than-fair-value investigation. These deposit requirements, when imposed, shall remain in effect until further notice.

Notification to Importers

This notice serves as a final reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties and/or an increase in the amount of antidumping duties by the amount of the countervailing duties.

Administrative Protective Order

This notice also serves as a reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

We are issuing and publishing this notice in accordance with sections 751(a)(1) and 777(i)(1) of the Act, and 19 CFR 351.221(b)(5).

Dated: December 2, 2022.
Lisa W. Wang,
Assistant Secretary for Enforcement and Compliance.

Appendix

List of Sections in the Issues and Decision Memorandum

I. Summary

II. Background

III. Scope of the Order

IV. Changes Since the Preliminary Results

V. Discussion of the Issues

Comment 1: The Appropriate Date of Sale

Comment 2: Whether to Adjust the Reported General and Administrative Expenses

VI. Recommendation

[FR Doc. 2022-26787 Filed 12-8-22; 8:45 am]

BILLING CODE 3510-DS-P